NUCLEAR WASTE TECHNICAL REVIEW BOARD

Board Meetings: February 1, 2006—Las Vegas, NV; The U.S. Nuclear Waste Technical Review Board Will Meet To Discuss Technical and Scientific Issues Related to the U.S. Department of Energy's Efforts To Develop a Repository at Yucca Mountain in Nevada

Pursuant to its authority under section 5051 of Public Law 100-203, Nuclear Waste Policy Amendments Act of 1987, the U.S. Nuclear Waste Technical Review Board will meet in Las Vegas, Nevada, on Wednesday, February 1, 2006. The Board was charged in the Nuclear Waste Amendments Act of 1987 with conducting an independent review of the technical and scientific validity of U.S. Department of Energy (DOE) activities related to disposing of, packaging, and transporting spent nuclear fuel and high-level radioactive waste. At the meeting, the Board will review DOE efforts to develop a fundamental understanding of phenomena that would affect radionuclide releases from a proposed repository for permanent disposal of the waste at Yucca Mountain in Nevada. A final meeting agenda will be available on the Board's Web site (http://www.nwtrb.gov) approximately one week before the meeting date. The agenda also may be obtained by telephone request at that time. The meeting will be open to the public, and opportunities for public comment will be provided.

The meeting will be held at the Desert Research Institute; 755 East Flamingo Road; Las Vegas, Nevada 89119; telephone 702-862-5307; fax 702-862-5362. The meeting will begin at 8 a.m. and will continue until approximately 6 p.m.

The meeting agenda will focus on DOE predictions and understanding of fundamental scientific and technical phenomena that affect the flux of water and radionuclides through the unsaturated zone, repository tunnels, and the saturated zone. Geochemical controls on potential radionuclide releases from the waste packages, the NRC's perspective on dose standards beyond 10,000 years, and risk-informed performance assessment also will be discussed.

Time will be set aside at the end of the day for public comments. Those wanting to speak are encouraged to sign the “Public Comment Register” at the check-in table. A time limit may have to be set on individual remarks, but written comments of any length may be submitted for the record.

Transcripts of the meetings will be available on the Board's Web site, by e-mail, on computer disk, and on a library-loan basis in paper format from Davonya Barnes of the Board's staff, beginning on February 25, 2006.

A block of rooms has been reserved for meeting participants at the Palms Casino Resort; 4321 West Flamingo Road; Las Vegas, Nevada 89103; telephone 702-942-7777; fax 702-942-7001. When making a reservation, please state that you are attending the Nuclear Waste Technical Review Board meeting. Reservations should be made by January 6, 2006, to ensure receiving the meeting rate.

For more information, contact Karyn Severson, NWTRB External Affairs; 2300 Clarendon Boulevard, Suite 1300; Arlington, VA 22201-3367; 703-235-4473; fax 703-235-4495.

Dated: December 30, 2005.
William D. Barnard,
Executive Director, Nuclear Waste Technical Review Board.

[FR Doc. 06-84 Filed 1-4-06; 8:45 am]

BILLING CODE 6820-AM-M